FEDERAL COMMUNICATIONS COMMISSION

Public Information Collection Requirement Submitted to OMB for Review and Approval, Comments Requested

September 15, 2008.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 20, 2008. If you anticipate that you will be submitting comments, but find it difficult to do so within the period of time allowed by this notice, you should advise the contacts listed below as soon as possible.

ADDRESSES: Direct all PRA comments to Nicholas A. Fraser, Office of Management and Budget, via Internet at Nicholas_A._Fraser@omb.eop.gov or via fax at (202) 395-5167 and to Cathy Williams, Federal Communications Commission, Room 1-C823, 445 12th Street, SW., Washington, DC or via Internet at Cathy.Williams@fcc.gov or PRA@fcc.gov.

To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the title of this ICR (or its OMB control number, if there is one) and then click on the ICR Reference Number to view detailed information about this ICR.”

FOR FURTHER INFORMATION CONTACT: For additional information or copies of the information collection(s), contact Cathy Williams at (202) 418-2918.

SUPPLEMENTARY INFORMATION:

OMB Control Number: 3060-0906.

Title: Annual DTV Report, FCC Form 317; 47 CFR 73.624(g).

Form Number: FCC Form 317.

Type of Review: Revision of a currently approved collection.

Respondents: Business or other for-profit entities; Not-for-profit institutions.

Number of Respondents and responses: 1,815 respondents, 3,630 responses.

Frequency of Response: Recordkeeping requirement; Annual reporting requirement.

Obligation to Respond: Required to obtain benefits—Statutory authority for this collection of information is contained in Sections 154(i), 303, 336 and 403 of the Communications Act of 1934, as amended.

Estimated Time per Response: 2-4 hours.

Total Annual Burden: 10,890 hours.

Total Annual Costs: $181,500.

Confidentiality: No need for confidentiality required.

Privacy Impact Assessment: No impact(s).

Needs and Uses: Congress has mandated that after February 17, 2009, full-power television broadcast stations must transmit only in digital signals, and may no longer transmit analog signals. On December 22, 2007, the Commission adopted a Report and Order in the matter of the Third Periodic Review of the Commission's Rules and Policies Affecting the Conversion to Digital Television, MB Docket No. 07-91, FCC 07-228 (“Third DTV Periodic Report and Order”) to establish the rules, policies and procedures necessary to complete the nation's transition to DTV. As a result of the Third DTV Periodic Report and Order, DTV stations that are permittees must now comply with the requirements for feeable ancillary or supplementary services in Section 73.624(g) (using FCC Form 317). This new requirement in 47 CFR § 73.624(g) adds a new group of respondents to this collection (namely, “DTV permittees”). The Commission has also revised FCC Form 317 and its instructions to indicate that DTV permittees are required to file the form and report their ancillary and supplementary services.

Each commercial and noncommercial educational (NCE) digital television (DTV) broadcast station licensee and permittee is required to file FCC Form 317 annually. The licensees/permittees report whether they provided ancillary or supplementary services at any time during the reporting cycle. The report indicates which services were provided, fee related services, gross revenues received from all feeable ancillary and supplementary services, and the amount of bitstream used to provide ancillary or supplementary service.

Concurrent with the submission of FCC Form 317, each commercial and noncommercial educational DTV licensee and permittee is required to remit to the Commission a payment, FCC Form 159 (3060-0589), in the amount of 5% of the gross revenues derived from the provision of its ancillary or supplementary services.

Each licensee and permittee is required to retain the records supporting the calculation of the fees due for three years from the date of remittance of fees. Noncommercial DTV licensees/permittees must also retain for eight years documentation sufficient to show that their entire bitstream was used “primarily” for noncommercial education broadcast services on a weekly basis.

Federal Communications Commission.
Marlene H. Dortch,
Secretary.

[FR Doc. E8-21862 Filed 9-17-08; 8:45 am]

BILLING CODE 6712-01-P